DEPARTMENT OF HEALTH AND HUMAN SERVICES

Centers for Disease Control and Prevention

[60 Day-02-81]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Impact Evaluation of CDC's Arthritis Physical Activity Campaign: Physical Activity. The Arthritis Pain Reliever—New—National Center for Chronic Disease Prevention and Health Promotion (NCCDPHP), Centers for Disease Control and Prevention (CDC).

Background

Arthritis affects nearly 43 million Americans, or about one in every six people, and is the leading cause of disability among adults in the United States. Because of the broad public health impact of this disease, the Centers for Disease Control and Prevention (CDC) developed the National Arthritis Action Plan in 1998 as a comprehensive approach to reducing the burden of arthritis on the United States.

As part of its efforts to implement the National Arthritis Action Plan, the CDC arthritis program developed a physical activity campaign for people with arthritis (PWA), specifically African American and Caucasian men and women aged 45-64, high school education or less, and annual income less than $35,000 per year. Campaign materials include print ads, 15-, 30- and 60-second radio public service announcements, and desktop displays with brochures for pharmacies, doctors' offices, and community centers. The campaign objectives are to increase target audience members' (1) Beliefs about physical activity as an arthritis management strategy (there are “things they can do” to make arthritis better, and physical activity is an important part of arthritis management); (2) Knowledge of the benefits of physical activity and appropriate physical activity for people with arthritis; (3) Confidence in their ability to be physically active, and (4) Trial of physical activity behaviors.

In Spring and Summer 2002, Physical Activity. The Arthritis Pain Reliever is being pilot-tested by 6 CDC-funded arthritis states; eventually materials will be disseminated to all 38 states funded for arthritis programs by CDC. The preliminary pilot tests are focusing on reach and exposure; a more thorough evaluation is necessary to assess impact of the campaign. This in-depth evaluation will be used to guide the public health practice of the 38 CDC-funded state arthritis programs and their partners in determining to what extent the arthritis physical activity campaign has achieved its objectives.

With the help of a contractor skilled in evaluation of health communication campaigns, CDC will conduct an impact evaluation using convenience samples in up to 12 selected geographic areas. The evaluation may include but not be limited to gathering information from the target audiences of (a) people with arthritis, and (b) physicians and other health care professionals through community surveys, in-person and follow-up telephone interviews, intercept interviews, and other quantitative methods recommended by the evaluation contractor. There is no cost to respondents.

Respondents | Number of respondents | Number of responses/respondent | Average burden/response (in hours) | Total burden (in hours)
People with Arthritis (quantitative survey) | 2000 | 1 | 20/60 | 667
People with Arthritis (qualitative data collection, ie., focus groups) | 100 | 1 | 90/60 | 150
MDs and other health care professionals | 24 | 1 | 90/60 | 36
Total |  |  |  | 853

Dated: September 18, 2002.
Nancy E. Cheal,
Acting Associate Director for Policy, Planning and Evaluation, Centers for Disease Control and Prevention.

[FR Doc. 02-24401 Filed 9-25-02; 8:45 am]

BILLING CODE 4163-18-P